DEPARTMENT OF THE INTERIOR

Fish and Wildlife Service

[FWS-HQ-IA-2016-N233]; [FXIA16710900000-134-FF09]

Advisory Council on Wildlife Trafficking

AGENCY: Fish and Wildlife Service, Interior.

ACTION: Notice of meeting.

SUMMARY: We, the U.S. Fish and Wildlife Service (Service), announce a public meeting of the Advisory Council on Wildlife Trafficking (Council). The Council's purpose is to advise the Presidential Task Force on Wildlife Trafficking, through the Secretary of the Interior, on national strategies to combat wildlife trafficking.

DATES: The meeting will be held on Tuesday, January 17, 2017, from 11 a.m. to 12:30 p.m. (Eastern Time). Members of the public who want to participate in the meeting must notify Mr. Cade London by close of business on Friday, January 13, 2017. See additional instructions under SUPPLEMENTARY INFORMATION, Procedures for Public Input.

ADDRESSES: The meeting will be held at the U.S. Department of the Interior, South Interior Building Auditorium, 1951 Constitution Avenue NW., Washington, DC 20240.

FOR FURTHER INFORMATION CONTACT: Cade London, Special Assistant—USFWS International Affairs, by email at cade_london@fws.gov (preferred contact method); by U.S. mail at 5275 Leesburg Pike, Falls Church, VA 22041; by telephone at (703) 358-2584; or by fax at (703) 358-2276.

SUPPLEMENTARY INFORMATION: In accordance with the requirements of the Federal Advisory Committee Act (5 U.S.C. App.), we announce that the Advisory Council on Wildlife Trafficking (Council) will hold a meeting to discuss Implementation of the National Strategy to Combat Wildlife Trafficking, priority areas for advice, and other Council business as appropriate.

Background

Pursuant to E.O. 13648, the Advisory Council on Wildlife Trafficking was formed on August 30, 2013, to advise the Presidential Task Force on Wildlife Trafficking, through the Secretary of the Interior, on national strategies to combat wildlife trafficking, including but not limited to (a) Effective support for anti-poaching activities; (b) Coordinating regional law enforcement efforts; (c) Developing and supporting effective legal enforcement mechanisms; and (d) Developing strategies to reduce illicit trade and consumer demand for illegally traded wildlife, including protected species.

The eight-member Council, appointed by the Secretary of the Interior, includes former senior leadership within the U.S. Government, as well as chief executive officers and board members from conservation organizations and the private sector. For more information on the Council and its members, visit http://www.fws.gov/international/advisory-council-wildlife-trafficking/.

Meeting Agenda

The Council will consider:

(1) Task Force Update and Implementation of National Strategy

(2) Priority Areas for Advice

(3) Other Council Business.

The final detailed agenda will be posted on the Internet at http://www.fws.gov/international/advisory-council-wildlife-trafficking/.

Procedures for Public Input

Submitting or Presenting Information

Interested members of the public may submit relevant information for the Council to consider during the public meeting. Members of the public who wish to speak must register in advance with Cade London by Friday, January 13, 2017 (see FOR FURTHER INFORMATION CONTACT).

Members of the public may submit written questions in advance for the Council to address during the meeting. Cade London must receive written questions by Friday, January 13, 2017. Nonregistered public speakers will not be considered during the meeting.

Individuals or groups who want to make an oral presentation at the meeting will be limited to 3 minutes per speaker, with no more than a total of 30 minutes for all speakers. Interested parties should contact Cade London by Friday, January 13, 2017, to be placed on the public speaker list.

Registered speakers who wish to expand on their oral statements, or those who wanted to speak but could not be accommodated on the agenda, are invited to submit subsequent written statements to the Council after the meeting. Such written statements must be received by Cade London, in writing, no later than Friday, January 27, 2017.

Registering To Attend the Meeting In Person

In order to attend this meeting, you must register by close of business Friday, January 13, 2017. Because entry to Federal buildings is restricted, all visitors must preregister to be admitted. Please submit your name, time of arrival, email address, and phone number to Cade London (see FOR FURTHER INFORMATION CONTACT).

Post-Meeting Minutes

Summary minutes of the conference will be maintained at 5275 Leesburg Pike, Falls Church, VA 22041, and on the Council Web site at http://www.fws.gov/international/advisory-council-wildlife-trafficking/, and will be available for public inspection during regular business hours within 30 days following the meeting.

Dated: December 29, 2016.
Teresa Christopher,
Acting Director.

[FR Doc. 2016-31997 Filed 1-4-17; 8:45 am]

BILLING CODE 4333-15-P